ENVIRONMENTAL PROTECTION AGENCY

[EPA-HQ-OECA-2014-0094; FRL—9986-02-OEI]

Information Collection Request Submitted to OMB for Review and Approval; Comment Request; NSPS for Other Solid Waste Incineration Units (Renewal)

AGENCY: Environmental Protection Agency (EPA).

ACTION: Notice.

SUMMARY: The Environmental Protection Agency (EPA) has submitted an information collection request (ICR), NSPS for Other Solid Waste Incineration Units (EPA ICR Number 2163.06, OMB Control Number 2060-0563), to the Office of Management and Budget (OMB) for review and approval in accordance with the Paperwork Reduction Act. This is a proposed extension of the ICR, which is currently approved through November 30, 2018. Public comments were previously requested, via the Federal Register on June 29, 2017, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 27, 2018.

ADDRESSES: Submit your comments, referencing Docket ID Number EPA-HQ-OECA-2014-0094, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Other Solid Waste Incineration (OSWI) Units (40 CFR part 60, subpart EEEE) apply to very small municipal waste combustion units and institutional waste incineration units. A new incineration unit subject to this subpart should meet either one of two criteria: (1) Commenced construction after December 9, 2004; or (2) commenced reconstruction or modification either on or after June 16, 2006. A very small municipal waste combustion unit is any municipal waste combustion unit that has the capacity to combust less than 35 tons per day of municipal solid waste or refuse-derived fuel. An institutional waste incineration unit is any combustion unit that combusts institutional waste and is a distinct operating unit of the institutional facility that generated the waste. Institutional waste is solid waste that is combusted at any institutional facility using controlled flame combustion in an enclosed, distinct operating unit: Whose design does not provide for energy recovery; operated without energy recovery; or operated with only waste heat recovery. Institutional waste also means solid waste combusted on site in an air curtain incinerator that is a distinct operating unit of any institutional facility. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 60, subpart EEEE.

Form numbers: None.

Respondents/affected entities: OSWI units, which include two subcategories: VSMWC units that combust less than 35 tons per day of waste and IWI units.

Respondent's obligation to respond: Mandatory (40 CFR part 60 Subpart EEEE).

Estimated number of respondents: 110 (total).

Frequency of response: Initially, semiannually and annually.

Total estimated burden: 80,800 hours (per year). Burden is defined at 5 CFR 1320.3(b).

Total estimated cost: $11,900,000 (per year), which includes $2,720,000 in annualized capital/startup and/or operation & maintenance costs.

Changes in the estimates: There is an increase in the labor hours or cost in this ICR compared to the previous ICR. The adjustment increase in burden from the most-recently approved ICR is due to an increase in the number of new or modified sources anticipated to be subject to the standard over the three-year period. The adjustment increase in burden is due to more accurate estimates of anticipated new sources: Based on Agency review, knowledge, and experience with the NSPS program and source category, and the growth rate for the industry should account for conservative growth and minimal burden. The overall result is an increase in burden hours and costs.

Courtney Kerwin,
Director, Regulatory Support Division.

[FR Doc. 2018-25770 Filed 11-26-18; 8:45 am]

BILLING CODE 6560-50-P